DEPARTMENT OF VETERANS AFFAIRS

[OMB Control No. 2900-0904]

Agency Information Collection Activity Under OMB Review: Staff Sergeant Parker Gordon Fox Suicide Prevention Grant Program (SSG Fox SPGP)

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0904.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0904” in any correspondence.

SUPPLEMENTARY INFORMATION:

Authority: 44 U.S.C. 3501-3521.

Title: Staff Sergeant Parker Gordon Fox Suicide Prevention Grant Program (SSG Fox SPGP), VA Forms 10-315a-b, 10-316a-f, and 10-317a-d.

OMB Control Number: 2900-0904.

Type of Review: Extension of a currently approved collection.

Abstract: On October 17, 2020, the Commander John Scott Hannon Veterans Mental Health Care Improvement Act of 2019, Public Law (Pub. L.) 116-171 (the Act), codified as a note to section 1720F of title 38, United States Code (U.S.C.), was enacted in law. Section 201 of the Act mandated VA establish the Staff Sergeant Parker Gordon Fox Suicide Prevention Grant Program (SSG Fox SPGP) to reduce Veteran suicide through the provision of community-based grants to certain eligible entities to provide or coordinate the provision of suicide prevention services to eligible individuals and their families.

In order to award grants under this program, and assess services and compliance with grants provided, VA requires submission of Applications for grants and Renewals of grants, Compliance Reports, Eligibility Screening, Intake Forms and Screenings, Participant Satisfaction Surveys, Program Exit Screenings, and Suicide Risk Screening Tools.

VA Form 10-315a—Application: This information is needed to award SSG Fox SPGP grants to eligible entities. The application requirements are consistent with section 201(f) of the Act and are designed to ensure that VA can fully evaluate the ability of applicants to achieve the goals of the grant program.

VA Form 10-315b—Renewal Application: This data collection instrument has been developed for grantees to renew grants previously awarded. The renewal application allows VA to fully evaluate the ability of applicants to achieve the goals of the SSG Fox SPGP and proposed 38 CFR part 78. This information is used by VA to determine whether to award renewal funds to existing grantees.

VA Forms 10-316a-f—Compliance Reports: This collection of information is required to ensure grantees are complying with all program requirements set forth in proposed 38 CFR part 78 and their grant agreements. These reports allow VA to assess the provision of services under this grant program. The reports consist of Annual Performance Reports, Other Performance and Implementation Reports, Program & Budget Changes, Corrective Action Plans, Annual Financial Expenditure Reports, and Quarterly Financial Reports.

VA Form 10-317a—Eligibility Screening: This data is collected by grantee staff to determine eligibility for the grant program, prior to enrollment. The collection instrument includes suicide risk factors.

VA Form 10-317b—Intake Form & Screenings: This data collection instrument is used by grantee staff to collect demographic and military service. This information is used by the VA to identify trends of the Veteran population the grantees are servicing. In addition, the intake form includes the following screenings: Social Economic Status (SES); Patient Health Questionnaire (PHQ-9); Warwick-Edinburgh Mental Wellbeing Scale (WEMWS); General Self-Efficacy Scale (GSE); and Interpersonal Support Evaluation List (ISEL-12).

VA Form 10-317c—Participant Satisfaction Survey: This data collection instrument has been developed to capture participant feedback about services and to evaluate the SSG Fox SPGP. This information is used by VA to determine the satisfaction of Veterans participating in the grant program funded services and the effectiveness of those services provided under the SSG Fox SPGP.

VA Form 10-317d—Program Exit Screenings: These data collection instruments are used by grantee staff at the completion of the program to track the following screenings upon program exit: Social Economic Status (SES); Patient Health Questionnaire (PHQ-9); Warwick-Edinburgh Mental Wellbeing Scale (WEMWS); General Self-Efficacy Scale (GSE); and Interpersonal Support Evaluation List (ISEL-12).

Columbia Suicide Severity Rating Scale (C-SSRS): Suicide risk screening is administered by grantees using the existing C-SSRS to assess suicide risk of program participants.

An agency may not conduct or sponsor, and a person is not required to respond to a collection of information unless it displays a currently valid OMB control number.

The Federal Register Notice with a 60-day comment period soliciting comments on this collection of information was published at 87 FR 215 on November 8, 2022, pages 67536 and 67537.

Total Annual Number of Responses = 30,205.

Total Annual Time Burden = 21,827 hours.

VA Form 10-315a—Application

Affected Public: Private Sector.

Estimated Annual Burden: 8,750 hours.

Estimated Average Burden per Respondent: 35 hours.

Frequency of Response: Once annually.

Estimated Number of Respondents: 250.

VA Form 10-315b—Renewal Application

Affected Public: Private Sector.

Estimated Annual Burden: 900 hours.

Estimated Average Burden per Respondent: 10 hours.

Frequency of Response: Once annually.

Estimated Number of Respondents: 90.

VA Form 10-316a—Annual Grantee Performance Report

Affected Public: Private Sector.

Estimated Annual Burden: 68 hours.

Estimated Average Burden per Respondent: 45 minutes.

Frequency of Response: Once annually.

Estimated Number of Respondents: 90.

VA Form 10-316b—Other Grantee Performance Report

Affected Public: Private Sector.

Estimated Annual Burden: 90 hours.

Estimated Average Burden per Respondent: 30 minutes.

Frequency of Response: Twice annually.

Estimated Number of Respondents: 90.

VA Form 10-316c—Program Change Request

Affected Public: Private Sector.

Estimated Annual Burden: 45 hours.

Estimated Average Burden per Respondent: 15 minutes.

Frequency of Response: Twice annually.

Estimated Number of Respondents: 90.

VA Form 10-316d—Corrective Action Plan (CAP)

Affected Public: Private Sector.

Estimated Annual Burden: 13 hours.

Estimated Average Burden per Respondent: 30 minutes.

Frequency of Response: Once annually.

Estimated Number of Respondents: 25.

VA Form 10-316e—Annual Grantee Financial Report

Affected Public: Private Sector.

Estimated Annual Burden: 68 hours.

Estimated Average Burden per Respondent: 45 minutes.

Frequency of Response: Once annually.

Estimated Number of Respondents: 90.

VA Form 10-316f—Quarterly Grantee Financial Report

Affected Public: Private Sector.

Estimated Annual Burden: 90 hours.

Estimated Average Burden per Respondent: 30 minutes.

Frequency of Response: Twice annually.

Estimated Number of Respondents: 90.

VA Form 10-317a—Eligibility Screening

Affected Public: Individuals or Households.

Estimated Annual Burden: 3,015 hours.

Estimated Average Burden per Respondent: 30 minutes.

Frequency of Response: 67 times annually.

Estimated Number of Respondents: 90.

VA Form 10-317b—Intake Form & Screenings

Affected Public: Individuals or Households.

Estimated Annual Burden: 3,015 hours.

Estimated Average Burden per Respondent: 30 minutes.

Frequency of Response: 67 times annually.

Estimated Number of Respondents: 90.

VA Form 10-317c—Participant Satisfaction Survey

Affected Public: Individuals or Households.

Estimated Annual Burden: 1,250 hours.

Estimated Average Burden per Respondent: 15 minutes.

Frequency of Response: Once annually.

Estimated Number of Respondents: 5,000.

VA Form 10-317d—Program Exit Screenings

Affected Public: Individuals or Households.

Estimated Annual Burden: 3,015 hours.

Estimated Average Burden per Respondent: 30 minutes.

Frequency of Response: 67 times annually.

Estimated Number of Respondents: 90.

Columbia Suicide Severity Rating Scale (C-SSRS)

Affected Public: Individuals or Households.

Estimated Annual Burden: 1,508 hours.

Estimated Average Burden per Respondent: 15 minutes.

Frequency of Response: 67 times annually.

Estimated Number of Respondents: 90.

By direction of the Secretary.
Maribel Aponte,
VA PRA Clearance Officer, Office of Enterprise and Integration, Data Governance Analytics, Department of Veterans Affairs.

[FR Doc. 2023-01016 Filed 1-19-23; 8:45 am]

BILLING CODE 8320-01-P